DEPARTMENT OF DEFENSE

Office of the Secretary

[Transmittal Nos. 13-03]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-03 with attached transmittal, policy justification, and Sensitivity of Technology.

Dated: April 11, 2013.
Aaron Siegel,
Alternate OSD Federal Register Liaison Officer, Department of Defense.

Transmittal No. 13-03

Notice of Proposed Issuance of Letter of Offer Pursuant to Section 36(b)(1) of the Arms Export Control Act, as amended

(i) Prospective Purchaser: Republic of Singapore

(ii) Total Estimated Value:

Major Defense Equipment* | $165 million
Other | 45 million
Total | 210 million
* As defined in Section 47(6) of the Arms Export Control Act.

(iii) Description and Quantity or Quantities of Articles or Services under Consideration for Purchase: 100 AIM-120C7 Advanced Medium Range Air-to-Air Missiles (AMRAAM), AMRAAM Programmable Advanced System Interface Simulator (PASIS), 10 AMRAAM Spare Guidance Sections, 18 AN/AVS-9(V) Night Vision Goggles, H-764G with GEM V Selective Availability Anti-Spoofing Module (SAASM), Common Munitions Built-in-Test Reprogramming Equipment (CMBRE-Plus) in support of a Direct Commercial Sale of new F-15SG aircraft. Also included: containers, spare and repair parts, support equipment, tools and test equipment, publications and technical documentation, personnel training and training equipment, U.S. Government and contractor engineering, logistics, and technical support services, and other related elements of logistics and program support.

(iv) Military Department: Air Force (BAA)

(v) Prior Related Cases, if any:

FMS case SAA-$180M-24Mar06;

FMS case SAC-$179M-02Nov09

(vi) Sales Commission, Fee, etc., Paid, Offered, or Agreed to be Paid: None

(vii) Sensitivity of Technology Contained in the Defense Article or Defense Services Proposed to be Sold: See Attached Annex

(viii) Date Report Delivered to Congress: 03 April 2013

POLICY JUSTIFICATION

Singapore—AIM-120C7 AMRAAM and Related Support

The Government of Singapore has requested a possible sale of 100 AIM-120C7 Advanced Medium Range Air-to-Air Missiles (AMRAAM), AMRAAM Programmable Advanced System Interface Simulator (PASIS), 10 AMRAAM Spare Guidance Sections, 18 AN/AVS-9(V) Night Vision Goggles, H-764G with GEM V Selective Availability Anti-Spoofing Module (SAASM), Common Munitions Built-in-Test Reprogramming Equipment (CMBRE-Plus) in support of a Direct Commercial Sale of new F-15SG aircraft. Also included: containers, spare and repair parts, support equipment, tools and test equipment, publications and technical documentation, personnel training and training equipment, U.S. Government and contractor engineering, logistics, and technical support services, and other related elements of logistics and program support. The estimated cost is $210 million.

This proposed sale will contribute to the foreign policy and national security of the United States by increasing the ability of the Republic of Singapore to contribute to regional security. Its contributions to counter-piracy and counterterrorism efforts continue to stabilize a critical chokepoint where much of the world's goods and services transit en route to and from the Asia Pacific region. The proposed sale will improve the security of a strategic partner which has been, and continues to be, an important force for political stability and economic progress in the Asia Pacific region. Specifically, this proposed sale will improve the Republic of Singapore Air Force's (RSAF) air to air capability and ability to defend its nation and cooperate with allied air forces

The Republic of Singapore requires these missiles to meet current and future threats of enemy aircraft. Singapore is procuring, via Direct Commercial Sale, new F-15SG aircraft. The proposed sale will enhance RSAF's ability to operate with coalition forces in bilateral and multilateral exercises and potential air defense operations. Singapore will use these capabilities as a deterrent to regional threats and to strengthen its homeland defense. Singapore will have no difficulty absorbing the AIM-120C7s into its armed forces.

The proposed sale of this equipment and support will not alter the basic military balance in the region.

The prime contractors will be Raytheon Missile Systems in Tucson, Arizona; Honeywell Aerospace in Phoenix, Arizona; ITT Night Vision in Roanoke, Virginia; and ATK Defense Electronic Systems in Clearwater, Florida. There are no known offset agreements proposed in connection with this potential sale.

Implementation of this proposed sale will not require the assignment of any additional U.S. Government or contractor representatives to Singapore.

There will be no adverse impact on U.S. defense readiness as a result of this proposed sale.

Transmittal No. 13-03

Notice of Proposed Issuance of Letter of Offer Pursuant to Section 36(b)(1) of the Arms Export Control Act

Annex

Item No. vii

(vii) Sensitivity of Technology:

1. The AIM-120C Advanced Medium Range Air-to-Air Missile (AMRAAM) is a supersonic, air launched, aerial intercept, guided missile featuring digital technology and micro-miniature solid-state electronics. The missile employs active radar target tracking, proportional navigation guidance, and active radio frequency target detection. It can be launched day or night, in any weather and increases pilot survivability by allowing the pilot to disengage after missile launch and engage other targets. AMRAAM capabilities include lookdown/shoot down, multiple launches against multiple targets, resistance to electronic countermeasures, and interception of high- and low-flying and maneuvering targets. The AMRAAM all-up-round (AUR) is classified Confidential, major components and subsystems range from Unclassified to Confidential, and technical data and other documentation up to Secret.

2. The AN/AVS-9 Night Vision Goggles (NVG) are 3rd generation aviation NVG offering higher resolution, high gain, and photo response to near infrared. The hardware and technical data and documentation to be provided are Unclassified.

3. The Common Munitions Built-In-Test (BIT)/Reprogramming Equipment (CMBRE) is a piece of support equipment used to interface with weapon systems to initiate and report (BIT), results, and upload/download flight software. CMBRE supports multiple munitions platforms with a range of applications that perform preflight checks, periodic maintenance checks, loading of Operational Flight Program (OFP) data, loading of munitions mission planning data, loading of Global Positioning System (GPS) cryptographic keys, and declassification of munitions memory. CMBRE is a system that manages data and information classified up to Secret.

4. If a technologically advanced adversary were to obtain knowledge of the specific hardware and software elements, the information could be used to develop countermeasures that might reduce weapon system effectiveness or be used in the development of a system with similar or advanced capabilities.

[FR Doc. 2013-08949 Filed 4-16-13; 8:45 am]

BILLING CODE 5001-06-P